DEPARTMENT OF COMMERCE

International Trade Administration

[A-533-838, A-570-892]

Carbazole Violet Pigment 23 From India and the People's Republic of China: Final Results of Expedited Third Sunset Reviews of the Antidumping Duty Orders

AGENCY: Enforcement and Compliance, International Trade Administration, Department of Commerce.

DATES: Applicable February 5, 2021.

SUMMARY: As a result of these sunset reviews, the Department of Commerce (Commerce) finds that revocation of the antidumping duty orders on carbazole violet pigment 23 (CVP-23) from India and the People's Republic of China (China) would be likely to lead to continuation or recurrence of dumping at the levels indicated in the “Final Results of Sunset Review” section of this notice.

FOR FURTHER INFORMATION CONTACT: Margaret Collins (India) or Marc Castillo (China), AD/CVD Operations, Office VI, Enforcement and Compliance, U.S. Department of Commerce, 1401 Constitution Avenue NW, Washington, DC 20230; telephone (202) 482-6250 or (202) 482-0519, respectively.

SUPPLEMENTARY INFORMATION:

Background

On December 29, 2004, Commerce published the antidumping duty orders on CVP-23 from India and China.¹ On October 1, 2020, Commerce published the notice of initiation of the third sunset reviews of the Orders, pursuant to section 751(c) of the Tariff Act of 1930 (the Act).² On October 9, 2020, Commerce received a notice of intent to participate in these sunset reviews from Sun Chemical Corporation (Sun Chemical), a petitioner in the original investigation, within the deadline specified in 19 CFR 351.218(d)(1)(i).³ Sun Chemical claimed interested party status under section 771(9)(C) of the Act as a domestic producer of CVP-23. On October 30, 2020, Sun Chemical provided complete substantive responses for these reviews within the 30-day deadline specified in 19 CFR 351.218(d)(3)(i).⁴ Commerce received no substantive responses from any other interested parties, nor was a hearing requested. On November 20, 2020, Commerce notified the U.S. International Trade Commission that it did not receive an adequate substantive response from respondent interested parties.⁵ As a result, Commerce conducted expedited (120-day) sunset reviews of the Orders, pursuant to section 751(c)(3)(B) of the Act and 19 CFR 351.218(e)(1)(ii)(C)(2).

¹ See Notice of Amended Final Determination of Sales at Less Than Fair Value and Antidumping Duty Order: Carbazole Violet Pigment 23 from India, 69 FR 77988 (December 29, 2004); and Antidumping Duty Order: Carbazole Violet Pigment 23 from the People's Republic of China, 69 FR 77987 (December 29, 2004) (collectively, the Orders).

² See Initiation of Five-Year (“Sunset”) Reviews, 85 FR 61928 (October 1, 2020).

³ See Sun Chemical's Letter, “Carbazole Violet Pigment 23 from The Republic Of India: Notice Of Intent To Participate In 3rd Sunset Review Of Antidumping Duty Order,” dated October 9, 2020; see also Sun Chemical's Letter, “Carbazole Violet Pigment 23 From The People's Republic of China: Notice Of Intent To Participate In 3rd Sunset Review Of Antidumping Duty Order,” dated October 9, 2020.

⁴ See Sun Chemical's Letters, “Carbazole Violet Pigment 23 from China: Substantive Response of the Domestic Industry to Commerce's Notice of Initiation of Five-Year (“Sunset”) Reviews” and “Carbazole Violet Pigment 23 from India: Substantive Response of the Domestic Industry to Commerce's Notice of Initiation of Five-Year (“Sunset”) Reviews,” each dated October 30, 2020.

⁵ See Commerce's Letter, “Sunset Review Initiated on October 1, 2020,” dated November 20, 2020.

Scope of the Orders

The merchandise subject to the Orders is certain CVP-23. Imports of merchandise included within the scope of this order are currently classifiable under subheading 3204.17.9040 of the Harmonized Tariff Schedule of the United States. The Issues and Decision Memorandum, which is hereby adopted by this notice, provides a full description of the scope of the Orders.⁶

⁶ See Memorandum, “Issues and Decision Memorandum for the Final Results of the Expedited Third Sunset Reviews of the Antidumping Duty Orders on Carbazole Violet Pigment 23 from India and the People's Republic of China,” dated concurrently with this notice.

Analysis of Comments Received

All issues raised in these reviews, including the likelihood of continuation or recurrence of dumping in the event of revocation, and the magnitude of dumping margins likely to prevail if the Orders were revoked, are addressed in the accompanying Issues and Decision Memorandum. A list of the topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at https://enforcement.trade.gov/frn. The signed and electronic versions of the Decision Memorandum are identical in content.

Final Results of Sunset Reviews

Pursuant to sections 751(c)(1) and 752(c)(1) and (3) of the Act, Commerce determines that revocation of the antidumping duty orders on CVP-23 from India and China would likely lead to continuation or recurrence of dumping, and that the magnitude of the dumping margins likely to prevail is up to 241.32 percent for China and up to 44.80 percent for India.⁷

⁷ Id.

Administrative Protective Order (APO)

This notice serves as the only reminder to interested parties subject to an APO of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.218, and 19 CFR 351.221(c)(5)(ii).

Dated: January 29, 2021.
Christian Marsh,
Acting Assistant Secretary for Enforcement and Compliance.

Appendix

List of Topics Discussed in the Issues and Decision Memorandum

I. Summary

II. Background

III. Scope of the Orders

IV. History of the Orders

V. Legal Framework

VI. Discussion of the Issues

a. Likelihood of Continuation or Recurrence of Dumping

b. Magnitude of the Margins Likely to Prevail

VII. Final Results of Sunset Reviews

VIII. Recommendation

[FR Doc. 2021-02457 Filed 2-4-21; 8:45 am]

BILLING CODE 3510-DS-P